DEPARTMENT OF COMMERCE

National Oceanic and Atmospheric Administration

Caribbean Fishery Management Council; Public Meetings

AGENCY: National Marine Fisheries Service (NMFS), National Oceanic and Atmospheric Administration (NOAA), Commerce.

ACTION: Notice of public meetings.

SUMMARY: The Caribbean Fishery Management Council's Scientific and Statistical Committee (SSC) will hold meetings.

DATES: The SSC meetings will be held on March 25, 26 and 27, 2014.

ADDRESSES: The meetings will be held at the Caribbean Fishery Management Council Headquarters, located at 270 Muñoz Rivera Avenue, 4th Floor, Suite 401, San Juan, Puerto Rico 00918.

FOR FURTHER INFORMATION CONTACT: Caribbean Fishery Management Council, 270 Muñoz Rivera Avenue, Suite 401, San Juan, Puerto Rico 00918; telephone: (787) 766-5926.

SUPPLEMENTARY INFORMATION: The SSC will meet to discuss the items contained in the following agenda:

March 25, 2014, 9 a.m.-5 p.m.

1. Evaluating criteria for inclusion of non-federally managed species into Island based FMPs.

a. Meeting MSA obligations: MSA mandates/definitions

b. Draft criteria

c. Non-MSA considerations

d. Evaluation of test (target) species

i. Lobster (managed)

ii. Ballyhoo

iii. Mullet

iv. Octopus

v. Mahi

vi. Mackerel

e. Other criteria for consideration

March 26, 2014, 9 p.m.-5 p.m.

Continuation of discussion on the evaluation of criteria from Day 1

2. Evaluating criteria for inclusion/exclusions of federally managed species into Island based FMPs.

3. Five Year Research Plan

March 27, 2014, 9 a.m.-12 p.m.

Continuation of discussion from previous day

(1) Bajo de Sico-Tourmaline-Abrir La Sierra: Compatibility in the EEZ of the 3 areas and recommendations to the CFMC.

(2) Guidelines for peer-review of external stock assessments

(3) Federal Permits

Other Business

Adjourn

The SSC will convene on March 25, from 9 a.m. until 5 p.m., on March 26, 2014, from 9 a.m. to 5 p.m., and on March 27, 2014, from 9 a.m. to 12 noon.

The meetings are open to the public, and will be conducted in English.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: March 3, 2014.
Tracey L. Thompson,
Acting Deputy Director, Office of Sustainable Fisheries, National Marine Fisheries Service.

[FR Doc. 2014-04936 Filed 3-5-14; 8:45 am]

BILLING CODE 3510-22-P